DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with February anniversary dates. In accordance with Commerce's regulations, we are initiating those administrative reviews.

DATES: Applicable March 28, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with February anniversary dates.

All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation notice in the Federal Register. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf. Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than February 28, 2026.

| Period to be reviewed
AD Proceedings
BRAZIL: Lemon Juice, A-351-858 | 2/1/24-1/31/25
Citrus Juice Eireli
Argofruta Comercial Exportadora Ltda.
Comercial Mazzuco Ltda.
Frutas do Brasil
HGI Importadora e Exportadora de Brasil
INDIA: Certain Frozen Warmwater Shrimp, A-533-840 | 2/1/24-1/31/25
Aachi Masala Foods (P) Ltd.
Aarshi Overseas Private Ltd.
Abad Fisheries; Abad Fisheries Pvt. Ltd.
Abad Overseas Private Limited
Accelerated Freeze Drying Co., Ltd.
ADF Foods Ltd.
Aerath Business Corp.
AJS Enterprises LLP
Akshay Food Impex Private Limited
Alashore Marine Exports (P) Ltd.
Albys Agro Private Limited
Al-Hassan Overseas Private Limited
Allana Frozen Foods Pvt. Ltd.
Allanasons Ltd.
Alpha Marine
Alpha Marine Limited
Alps Ice & Cold Storage Private Limited
Amaravathi Aqua Exports Private Ltd.
Amarsagar Seafoods Private Limited
Amulya Seafoods
Ananda Aqua Applications; Ananda Aqua Exports (P) Limited; Ananda Foods
Ananda Enterprises (India) Private Limited
Anantha Seafoods Private Limited
Andaman Sea Foods Pvt. Ltd.
Anjaneya Sea Foods
Apar Industries Limited
Aparna Marine Exports
Apex Frozen Foods Limited
Aquamarine Food Products Ltd.
Aquastar Marine Exports
Aquatica Frozen Foods Global Pvt. Ltd.
Ariba Foods Pvt. Ltd.
Arya Sea Foods Private Limited
Asvini Agro Exports
Asvini Exports
Asvini Fisheries Ltd.; Asvini Fisheries Private Ltd.
Aswin Associates
Atlas Fisheries Private Limited
Avanti Feeds Limited
Avanti Frozen Foods Private Limited
Avla Nettos Exports
Ayshwarya Sea Food Private Limited
B R Traders
Baby Marine Eastern Exports
Baby Marine Exports
Baby Marine International
Baby Marine Sarass
Baby Marine Ventures
Bafna Enterprises
Bakemill Foods
Balasore Marine Exports Private Limited
Baraka Overseas Traders
Basu International
BB Estates & Exports Private Limited
Bell Foods (Marine Division); Bell Exim Private Limited (Bell Foods (Marine Division))
Bergwerff Organic India Private Limited
Bhatsons Aquatic Products
Bhavani Seafoods
Bhimraj Exports Private Limited
Bijaya Marine Products
Birendrashok Seafoods Private Limited
Blue Sea Resources Private Limited
Blue Water Foods & Exports P. Ltd.
Blue-Fin Frozen Foods Pvt Ltd.
Bluepark Seafoods Pvt. Ltd.
Bluetide Eservices Pvt., Ltd.
BMR Exports; BMR Exports Private Limited
BMR Industries Private Limited
B-One Business House Pvt. Ltd.
BRC Marine Products
Britannia Industries Limited
Britto Seafoods Exp. Pvt. Ltd.; Britto Exports; Britto Exports Pvt. Ltd.
C Private Limited
C.P. Aquaculture (India) Pvt. Ltd.
Calcutta Seafoods Pvt. Ltd.; Bay Seafood Pvt. Ltd.; Elque Ventures Private Limited ⁴
Canaan Marine Products
CAP Seafoods Private Limited
Capital Foods Private Limited
Capithan Exporting Co.
Cargomar Private Limited
Castlerock Fisheries Ltd
Chakri Fisheries Private Limited
Charoen Pokphand Group Co., Ltd.
Chemmeens (Regd)
Cherukattu Industries (Marine Div); Cherukattu Industries
Choice Canning Company
Choice Trading Corporation Pvt. Ltd.
Coastal Aqua Private Limited
Coastal Corporation Ltd.
Cochin Frozen Food Exports Pvt. Ltd.
Cofoods Processors Private Limited
Contai Marine Fish Export Private Limited
Continental Fisheries India Private Limited
Coreline Exports
Corlim Marine Exports Private Limited
Costar Processor
CPF India Private Ltd.
Crystal Sea Foods Private Limited
Crystalnova Foods Pvt., Ltd.
Danica Aqua Exp. Private Ltd.
Datla Sea Foods
Deepak Nexgen Foods And Feeds Private Limited
Deepmala Marine Exports
Delsea Exports Pvt. Ltd.
Desai Foods Private Ltd.
Devi Fisheries Limited; Satya Seafoods Private Limited; Usha Seafoods; Devi Aquatech Private Limited
Devi Sea Foods Limited ⁵
Diamond Seafoods Exports; Edhayam Frozen Foods Pvt. Ltd.; Kadalkanny Frozen Foods; Theva & Company
DN Sea Shells Private Limited
DSF Aquatech Private Limited
Dwaraka Sea Foods
Eden Garden Exports
Ega Trade Center No. 809
Empire Industries Limited
Entel Food Products Private Limited
Esmario Export Enterprises
Everblue Sea Foods Private Limited
Fair Exp. (India) Pvt., Ltd.
Falcon Marine Exports Limited; KR Enterprises
Febin Marine Foods Private Limited; Febin Marine Foods
Fedora Sea Foods Private Limited
Five Star Marine Exports Private Limited
Food Products Pvt., Ltd.; Parayil Food Products Pvt., Ltd.
Forstar Frozen Foods Private Limited
Fouress Food Products Pvt. Ltd.
Frontline Exports Pvt. Ltd.
G A Randerian Ltd.; G A Randerian (P) Limited
Gadre Marine Export P Ltd.
Galaxy Maritech Exports P. Ltd.
Gaurav International
Geo Aquatic Products (P) Ltd.
Geo Seafoods
Ghan Marine Products
GKS Business Associates Private Limited
Global Gourmet Private Limited
Glossy Impex Private Limited
Goana Foods Prop. Cyd Paes.
Godavari Mega Aqua Food Park Private Limited
Gokul Overseas Ltd.
Grand Marine Foods
Grandtrust Overseas (P) Ltd.
Green Asia Impex Private Limited
Growel Processors Private Limited
GVR Exports Pvt. Ltd.
Hari Marine Private Limited
Haripriya Marine Exports Pvt. Ltd
Heiploeg Seafood India Pvt., Ltd.
HIC ABF Special Foods Pvt. Ltd.
High Care Marine Foods Exports Private Limited
Highland Agro Food Private Limited ⁶
Hiravati Exports Pvt. Ltd.
Hiravati International Pvt. Ltd.
Hiravati Marine Products Private Limited
HMG Industries Ltd.
HN Indigos Private Ltd.
HT Foods Private Limited
Hyson Exports Private Limited
Hyson Logistics and Marine Exports Private Limited
IFB Agro Industries Ltd.
India Gills
Indian Aquatic Products
Indo Aquatics
Indo Fisheries
Indo French Shellfish Company Private Limited
Innovative Foods Limited
International Freezfish Exports
Intl Exporters Foodparks Private Ltd.
ITC Ltd.
Jagadeesh Marine Exports
Jaya Lakshmi Sea Foods Pvt. Ltd.
Jeelani Marine Products
Jigar Enterprises
Jinny Marine Traders
Joecons Marine Exp. Pvt., Ltd.
Jude Foods India Private Limited
K R Sea Foods Private Limited
K.V. Marine Exports
Kader Exports Private Limited ⁷
Kalyan Aqua & Marine Exp. India Pvt. Ltd.
Kanu Krishna Corporation
Karam Chand Thapar & Bros. Ltd.
Karunya Marine Exports Private Limited
Kaushalya Aqua Marine Product Exports Pvt. Ltd.
Kay Kay Exports; Kay Kay Foods
Kiefer Sea Foods
Kings Infra Ventures Limited
Kings Marine Products
KNC Agro Limited; KNC AGRO PVT. LTD.
Kohinoor Foods Limited
Koluthara Exports Ltd.
Kumars Foods
Kyobashi Premier Freeze Dry Private Ltd.
Latecoere India Private Ltd.
Libran Foods
Lito Marine Exports Private Limited
LNSK Greenhouse Agro Products LLP
Maa Nachinda Sea Food
Magnum Export; Magnum Exports Pvt. Ltd.
Magnum Sea Foods Limited; Magnum Estates Limited; Magnum Estates Private; Magnum Estates Private Limited
Mangala Marine Exim India Pvt. Ltd.
Mangala Sea Products
Mangala Seafoods; Mangala Sea Foods
Manjilas Food Tech Private Ltd.
Marine Harvest India
Maritime Aqua Exportz
Megaa Moda Pvt. Ltd.
Meghmani Industries Ltd.
Mekworld Marines and Exports Private Limited
Milesh Marine Exports Private Limited
Milsha Agro Exports Pvt. Ltd.
Milsha Sea Products
Minaxi Fisheries Private Limited
Mindhola Foods LLP
Minh Phu Group
MMC Exports Limited
Monsun Foods Pvt. Ltd.
Mourya Aquex Pvt. Ltd.
MTR Foods
Munnangi Seafoods (Pvt) Ltd.
N.K. Marine Exports LLP
Naga Hanuman Fish Packers
Naik Frozen Foods Private Limited; Naik Frozen Foods
Naik Oceanic Exports Pvt. Ltd.; Rafiq Naik Exports Pvt. Ltd.
Naik Seafoods Ltd.
Nanak Nutritions Food (Taloja) Pvt., Ltd.
Naq Foods India Private Limited
Nas Fisheries Pvt. Ltd.
NDM Seafood Processors & Exporters Private Limited
Nector Exp. Pvt., Ltd.
Neeli Aqua Private Limited
Nekkanti Mega Food Park Private Limited
Nekkanti Sea Foods Limited
New Faizan Foods
Nezami Rekha Sea Foods Private Limited; Nezami Rekha Sea Food Private Limited
Nila Sea Foods Exports; Nila Sea Foods Pvt. Ltd.
Nilamel Exp.
Nine Up Frozen Foods
Nutrient Marine Foods Limited
Oceanic Edibles International Limited
Orchid Marine Exports Private Limited
Oriental Export Corporation
Paragon Sea Foods Pvt. Ltd
Paramount Seafoods
Pasupati Aquatics Private Limited
Penver Products (P) Ltd
Pesca Marine Products Pvt., Ltd.
Phillips Foods India Private Ltd.
Pijikay International Exports P Ltd.
Pohoomal Kewalram Sons Exports Pvt Ltd.
Poyilakada Fisheries Private Limited
Pravesh Seafood Private Limited
Premas Enterprises Private Ltd.
Premier Exports International
Premier Marine Foods
Premier Seafoods Exim (P) Ltd.
Pridel Pvt., Ltd.
Protech Organo Foods Private Limited
R V R Marine Products Private Limited
R.K. Industries IV
Raju Exports
Rajyalakshmi Marine Exports
Ram's Assorted Cold Storage Limited
Raunaq Ice & Cold Storage
Razban Seafoods Ltd.
RDR Exports
Relish Custom Foods
RF Exports Private Limited
Rising Tide
Riyarchita Agro Farming Private Limited
Rizwan Ice & Cold Storage Partnership Firm Pvt Ltd.
Ronisha Exp.
Royal Exports
Royal Imports and Exports
Royale Marine Impex Pvt. Ltd.
Royalux Exports Private Limited
RSA Marines; Royal Oceans
Rupsha Fish Private Limited
Ruthi Imp. & Exp.
S Chanchala Combines
S. S. Sea Food Private Limited
S.A. Exports
S.H. Marine Exim
Safa Enterprises
Safa Global Impex
Safa Global Imp. & Exp.
Safera Food International
Sagar Grandhi Exports Pvt. Ltd.
Sagar Marine Imp. & Exp.
Sagar Samrat Seafoods
Sahada Exports
Sai Aquatechs Private Limited
Sai Marine Exports Pvt. Ltd.
Sai Sea Foods
Salet Seafoods Pvt. Ltd.
Sam Aqua Exports LLP
Samaki Exports Private Limited
Sanchita Marine Products Private Limited
Sandhya Aqua Exports Pvt. Ltd.; Sandhya Aqua Exports
Sandhya Marines Limited
Sandy Bay Seafoods India Private Limited
Sas Exports
Sassoondock Matsyodyog Sahakari Society Ltd.
Satish Marine Exim Private Limited
Sea Doris Marine Exports
Sea Foods Private Limited
Seaeyes Stem Limited
Seagold Overseas Pvt. Ltd.
Seagull Maritime Exports Private Limited
Sealands
Seasaga Enterprises Private Limited; Seasaga Group; Elimar Frozen Food
Seema Enterprises
Shankha Deep Exports Private Limited
Sharat Industries Ltd.
Sheseema Exp.
Shimpo Exports Private Limited
Shimpo Seafoods Private Limited
Shiva Frozen Food Exp. Pvt. Ltd.
Shree Datt Aquaculture Farms Pvt. Ltd.
Shree Ram Agro Industries
Shree Ulka LLP
Shroff Processed Food & Cold Storage P Ltd.
Sigma Seafoods
Silver Seafood
Sita Marine Exports
SKML Exim Private Limited
SMD Rays
Snow World Marine Exports Private Limited
Sonia Fisheries
Sonia Marine Exports Private Limited
Southern Tropical Foods Pvt. Ltd.
Sprint Exports Pvt. Ltd.
Sreeragam Export Private Limited
Sresta Natural Bioproducts Pvt., Ltd.
Sri Ayyanar Exp.
Sri Sai Marine Exp.
Sri Sakkthi Cold Storage
Srikanth International
Srikanth International Private Limited
SSF Ltd.
St. Peter and Paul Sea Food Exports Private Limited
Star Agro Marine Exports Private Limited
Star Organic Foods Private Limited
Stellar Marine Foods Private Limited
Sterling Foods
Subu Sea Foods
Summit Marine Exports Private Limited
Sun Agro Exim
Sunrise Aqua Food Exports
Sunrise Seafoods India Private Limited
Supran Exim Private Limited
Suryamitra Exim Pvt. Ltd.
Suvarna Rekha Exports Private Limited
Suvarna Rekha Marines P Ltd.
TBR Exports Private Limited
Teekay Marines Private Limited; Teekay Marine P. Ltd.
Tej Aqua Feeds Private Limited
The Waterbase Ltd.
Torry Harris Seafoods Ltd.
TRDP Happy World Private Limited
Triveni Fisheries P Ltd.
U & Company Marine Exports
Ulka Sea Foods Private Limited
Uniloids Biosciences Private Limited
Uniroyal Marine Exports Limited
Unitriveni Overseas Private Limited; Unitriveni Overseas
Upasana Exports
Ushodaya Enterprises Private Ltd.
V.V. Marine Products
Vaibhav Global Ltd.
Vaisakhi Bio-Marine Private Limited
Varma Marine
Vasai Frozen Food Co.
Vasista Marine
Vasista Marine Private Limited
Vedhaa Balaa Farm LLP
Veerabhadra Exports Private Limited
Veronica Marine Exports Private Ltd.
Victoria Marine & Agro Exports Ltd.
Vinner Marine
Vitality Aquaculture Pvt. Ltd.
Vivek Agro Products
VKM Foods Private Limited
VRC Marine Foods LLP
Wellcome Fisheries Limited
West Coast Fine Foods (India) Private Limited
West Coast Foods Private Limited
West Coast Frozen Foods Private Limited
Z.A. Sea Foods Pvt. Ltd.
Zeal Aqua Limited
INDIA: Sodium Nitrite, A-533-906 | 2/1/24-1/31/25
Deepak Nitrite Limited
Kronox Lab Sciences Pvt Ltd.
Buradon Inc.
Kutch Chemical Industries Ltd.
Palvi Industries Limited
Lotus Global Pvt. Ltd.
INDIA: Stainless Steel Bar, A-533-810 | 2/1/24-1/31/25
Aamor Inox Limited
Ambica Steels Limited
Astrabright LLP
Atlas Stainless Corporation Private Limited
Bhansali Bright Bars Pvt. Ltd.
Chandan Steel Limited
Eurostahl Tech
Laxcon Steel Limited; Metlax International Private Limited; Parvati Private Limited; Mega Steels Private Limited; Ocean Steels Private Limited
Mangalam Alloys Limited
Meltroll Engineering Pvt. Ltd.
Welspun Specialty Solutions, Ltd.
Venus Wire Industries PVT. LTD.; Sieves Manufacturers (India) Pvt. Ltd.; Hindustan Inox; Precision Metals
ITALY: Stainless Steel Butt-Weld Pipe Fittings, A-475-828 | 2/1/24-1/31/25
Filmag Italia, SpA
Tectubi Raccordi SpA (including its affiliates, Raccordi Forgiati S.r.l. and Allied International S.r.l)
MALAYSIA: Stainless Steel Butt-Weld Pipe Fittings, A-557-809 | 2/1/24-1/31/25
New Courage Global Limited
Pantech Stainless & Alloy Industries Sdn. Bhd.
MEXICO: Large Residential Washers, A-201-842 | 2/1/24-1/31/25
Electrolux Home Products Corp. N.V.; Electrolux Home Products de Mexico, S.A. de C.V.
REPUBLIC OF KOREA: Certain Cut-To-Length Carbon-Quality Steel Plate, A-580-836 | 2/1/24-1/31/25
Daeik Eng Co., Ltd.
Dongkuk Steel Mill Co., Ltd.
Hyundai Steel Company
MAIKO International
SOCIALIST REPUBLIC OF VIETNAM: Certain Frozen Warmwater Shrimp, A-552-802 | 2/1/24-1/31/25
AFoods
Amanda Seafood Co., Ltd.
An Nguyen Investment Production and Group
Anh Khoa Seafood
Anh Minh Quan Corp
APT Co.
Au Vung One Seafood
Bac Lieu Fisheries Joint Stock Company
Baclieufis
Bentre Forestry and Aquaproduct Import-Export Joint Stock Company aka FAQUIMEX Bentre Seafood Joint Stock Company
Beseaco
Bien Dong Seafood Co., Ltd.
BIM Foods Joint Stock Company
Binh Dong Fisheries Joint Stock Company
Binh Thuan Import-Export Joint Stock Company
Blue Bay Seafood Co., Ltd.
C.P. Vietnam Corporation
Ca Mau Frozen Seafood Processing Import Export Corporation
Ca Mau Seafood Joint Stock Company
Ca Mau Seafood Processing and Services Joint Stock Company
Cadovimex
Cadovimex II Seafood Import Export and Processing Joint Stock Company
Cadovimex Seafood Import-Export and Processing Joint Stock Company Cafatex Fishery Joint Stock Corporation/Cafatex Corporation
CAFISH
Camimex Group Joint Stock Company ⁸
Camau Seafood Processing and Service Joint Stock Corporation aka CASES Kien Giang Branch Camau Seafood Processing & Service Joint Stock Corporation
Camimex Foods Joint Stock Company
Cantho Import Export Fishery Limited Company
CAFISH
Caseamex
CJ Cau Tre Foods Joint Stock Company
Coastal Fisheries Development Corporation
COFIDEC
Cuulong Seaproducts Company, aka Cuulong Seapro
Dai Phat Tien Seafood Co., Ltd.
Danang Seafood Import Export
Danang Seaproducts Import-Export Corporation
Domenal Joint Stock Company
Dong Hai Seafood Limited Company
Dong Phuong Seafood Co., Ltd.
Duc Cuong Seafood Trading Co., Ltd.
Duong Hung Seafood
FIMEX VN/Sao Ta Seafood Factory ⁹
FFC/Fine Foods Company
Frozen Seafoods Factory No. 32
Gallant Dachan Seafood Co., Ltd.
Gallant Ocean (Vietnam) Joint Stock Company
GN Foods Joint Stock Company
Go Dang Joint Stock Company
GODACO Seafood
Green Farms Seafood Joint Stock Company
Hai Viet Corporation
Hanh An Trading Service Co., Ltd.
HAVICO
Hoang Anh Fisheries Trading Company Limited
Hoang Phong Seafood Co.
Hong Ngoc Seafood Co., Ltd.
Hung Bang Company Limited
Hung Dong Investment Service Trading Co., Ltd.
HungHau Agricultural Joint Stock Company
Investment Commerce Fisheries Corporation
JK Fish Co., Ltd.
Khang An Foods Aquatic Products Joint Stock Company
Khang An Foods Joint Stock Company
Khanh Hoa Seafoods Exporting Company
Khanh Sung Company, Ltd.
KHASPEXCO
Kim Anh Company Limited
Kim Phat Seafood Import Export Company
Long Toan Frozen Aquatic Products Joint Stock Company
MC Seafood
Minh Anh Seafood Import Export
Minh Bach Seafood Company Limited
Minh Cuong Seafood Import Export Processing Joint Stock Company
Minh Hai Export Frozen Seafood Processing Joint-Stock Company, aka Minh Hai Jostoco
Minh Hai Joint-Stock Seafood Processing Company, aka Sea Minh Hai, aka Seaprodex Minh
Hai, aka Minh Hai Joint Stock Seafoods
Minh Phat Seafood Company Limited ¹⁰
Minh Phu Hau Giang Seafood ¹¹
Minh Phu Seafood Corporation ¹²
Minh Qui Seafood Company Limited ¹³
My Son Seafoods Factory
Nam Hai Foodstuff and Export Company Ltd.
Nam Phuong Foods Import Export Company Limited
Nam Viet Seafood Import Export Joint Stock Company/NAVIMEXCO
Namcan Seaproducts Import Export Joint Stock Company
New Generation Seafood Joint Stock Company
New Wind Seafood Company Limited
Ngoc Tri Seafood Joint Stock Company
Ngoc Trinh Bac Lieu Seafood Co., Ltd.
Nguyen Chi Aquatic Product Trading Company Limited
Nha Trang Seafoods-F89 Joint Stock Company/Nha Trang Seaproduct Company/NT Seafoods Corporation/NTSF Seafoods Joint Stock Company ¹⁴
Nhat Duc Co., Ltd.
Nigico Co., Ltd.
Phuong Nam Foodstuff Corp.
QAIMEXCO
Q N L Company Limited
QNL One Member Company
Quang Minh Seafood Co., Ltd Quoc Ai Seafood Processing Import Export Co., Ltd.
Quoc Toan PTE
Quoc Toan Seafood Processing Factory
Quoc Viet Seaproducts Processing Trading and Import-Export Co., Ltd.
Quy Nhon Frozen Seafoods Joint Stock Company
Safe And Fresh Aquatic Products Joint Stock Company
Saigon Aquatic Product Trading Joint Stock Company
Saigon Food Joint Stock Company
Sao Ta Foods Joint-Stock Company
Savvy Seafood Vietnam Co., Ltd.
SEADANANG
Seafood Direct 2012 One Member Limited
Seafood Joint Stock Company No. 4
Seafood Travel Construction Import-Export Joint Stock Company
Seafoods and Foodstuff Factory
Sea Minh Hai
Seanamico
Seaprimexco Vietnam
Seaproducts Joint Stock Company No. 5/Vietrosco
Seaprodex Min Hai
Seaprodex Minh Hai
Seaprodex Minh Hai Factory No. 69
Seaprodex Minh Hai Factory No. 78
Seaprodex Minh Hai Workshop 1
Seaspimex Vietnam
Seavina Joint Stock Company, aka Seavina
Simmy Seafood Company Limited
Soc Trang Seafood Joint Stock Company aka STAPIMEX
South Ha Tinh Seaproducts Import-Export Joint Stock Company
South Vina Shrimp-SVS
Southern Shrimp Joint Stock Company
Special Aquatic Products Joint Stock Company
T & P Seafood Company Limited
T&T Cam Ranh
Tacvan Frozen Seafood Processing Export Company, aka Tacvan Seafoods Co
Tai Kim Anh Seafood Joint Stock Corporation (TAIKA Seafood Corporation)
Tai Nguyen Seafood Co., Ltd.
Tan Phong Phu Seafood Co., Ltd.
Tan Thanh Loi Frozen Food Co., Ltd.
Tay Do Seafood Enterprise
THADIMEXCO
Thai Hoa Foods Joint Stock Company
Thai Minh Long Seafood Company Limited
Thaimex
Thanh Doan Fisheries Import-Export Joint Stock Company
Thanh Doan Sea Products Import & Export Processing Joint-Stock Company
Thanh Doan Seafood Import Export Trading Joint-Stock Company
The Light Seafood Company Limited
Thien Phu Export Seafood
Thinh Hung Co., Ltd.
Thinh Phu Aquatic Products Trading Co., Ltd.
Thong Thuan Cam Ranh Seafood Joint Stock Company
Thong Thuan Company Limited
Thong Thuan Tra Vinh Seafood Joint Stock Company
Thuan Phouc Corp.
Thuan Phuoc Seafoods and Trading Corporation
Thuan Thien Producing Trading Ltd. Co.
Tin An Seafood Factory
TPP Co. Ltd.
Trang Corporation (Vietnam)
Trang Khanh Seafood Co., Ltd.
Trong Nhan Seafood Company Limited
Trung Son Seafood Processing Joint Stock Company
UTXI Aquatic Products Processing Corporation (UTXICO)
Van Duc Food Company Limited
Viet Asia Foods Company Limited (VAFCO)
Viet Foods Co., Ltd.
Viet Hai Seafood Co., Ltd.
Viet I-Mei Frozen Foods Co., Ltd.
Viet Phu Foods and Fish Corp.
Viet Shrimp Corporation
Vietnam Clean Seafood Corporation, aka Vina Cleanfood, aka Viet Nam Clean Seafood Corporation
Vietnam Fish-One Co., Ltd.
Vietnam Rich Beauty Food Co., Ltd.
VIFAFOOD
Vinh Hoan Corp.
Vinh Phat Food Joint Stock Company
Western Foods Company Limited
XNK Thinh Phat Processing Company
SOCIALIST REPUBLIC OF VIETNAM: Utility Scale Wind Towers, A-552-814 | 2/1/24-1/31/25
Southern Green Energy and Renewable Energy Co., Ltd.
UBI Tower Sole Member Company Ltd.
Vina Halla Heavy Industries Ltd.
SOUTH AFRICA: Lemon Juice, A-791-827 | 2/1/24-1/31/25
Cape Fruit Processors Pty. Ltd.
Granor Passi Pty Ltd.
Magaliesberg Citrus Company
Onderberg Verwerkingskooperasie Beperk
Venco Fruit Processors Pty. Ltd.
TAIWAN: Crystalline Silicon Photovoltaic Products, A-583-853 | 2/1/24-1/31/25
EEPV Corp.
THAILAND: Certain Frozen Warmwater Shrimp, A-549-822 | 2/1/24-1/31/25
A. Wattanachai Frozen Products Co., Ltd.
A.P. Frozen Foods Co., Ltd.
A.S. Intermarine Foods Co., Ltd.
ACU Transport Co., Ltd.
Ampai Frozen Food Co., Ltd.
Andaman Seafood Co., Ltd.¹⁵
Anglo-Siam Seafoods Co., Ltd.
Apex Maritime (Thailand) Co., Ltd.
Apitoon Enterprise Industry Co., Ltd.
Applied DB Ind.; Applied DB
Asia Pacific (Thailand) Co., Ltd.
Asian Alliance International Co., Ltd.
Asian Sea Corporation Public Company Limited
Asian Seafood Coldstorage (Sriracha)
Asian Seafoods Coldstorage Public Co. Ltd.; Asian Seafoods Coldstorage (Suratthani) Co., Limited
Asian Star Trading Co., Ltd.
Assoc. Commercial Systems
B.S.A. Food Products Co., Ltd.
Bangkok Dehydrated Marine Product Co., Ltd.
Bright Sea Co., Ltd.; The Union Frozen Products Co., Ltd ¹⁶
C N Import Export Co., Ltd.
C Y Frozen Food Co., Ltd.
C.K. Frozen Fish and Food Co., Ltd.
C.P. Intertrade Co. Ltd.
C P Mdse
CP Merchandising Company Limited; Charoen Pokphand Foods Public Co., Ltd.; Klang Co., Ltd; Seafoods Enterprise Co., Ltd.; Thai Prawn Culture Center Co., Ltd.¹⁷
CP Retailing and Marketing Co., Ltd.
Calsonic Kansei (Thailand) Co. Ltd.
CPF Food Products Co. Ltd.
CPF Food Network Co., Ltd.
Century Industries Co., Ltd.
Chaivaree Marine Products Co., Ltd.
Chanthaburi Frozen Food Co., Ltd.¹⁸
Chanthaburi Seafoods Co., Ltd.¹⁹
Chaophraya Cold Storage Co., Ltd.
Charoen Pokphand Petrochemical Co., Ltd.
Chonburi LC
Chue Eie Mong Eak
Commonwealth Trading Co., Ltd.
Core Seafood Processing Co. Ltd.
Crystal Frozen Foods Co., Ltd.
Crystal Seafood
Daedong (Thailand) Co. Ltd.
Daiei Taigen (Thailand) Co., Ltd.
Daiho (Thailand) Co., Ltd.
Dynamic Intertransport Co., Ltd.
Earth Food Manufacturing Co., Ltd.
F.A.I.T. Corporation Limited
Far East Cold Storage Co., Ltd.
Fimex Vn
Findus (Thailand) Ltd.
Fortune Frozen Foods (Thailand) Co., Ltd.
Frozen Marine Products Co., Ltd.
Gallant Ocean (Thailand) Co., Ltd.
Gallant Ocean Seafood Corporation
Gallant Seafoods Corporation
Global Maharaja Co., Ltd.
Golden Sea Frozen Foods Co., Ltd.
Golden Seafood International Co., Ltd.
Golden Thai Imp. & Exp. Co., Ltd
Good Fortune Cold Storage Co. Ltd.
Good Luck Product Co., Ltd.
Grobest Frozen Foods Co., Ltd.
Gulf Coast Crab Intl.
H.A.M. International Co., Ltd.
Haitai Seafood Co., Ltd.
Handy International (Thailand) Co., Ltd.
Heng Seafood Limited Partnership
Heritrade Co., Ltd.
HIC (Thailand) Co., Ltd.
High Way International Co., Ltd.
I.T. Foods Industries Co., Ltd.
Inter-Oceanic Resources Co., Ltd.
Inter-Pacific Marine Products Co., Ltd.
Intersia Foods Co., Ltd.²⁰
K & U Enterprise Co., Ltd.
Kingfisher Holdings Limited; KF Foods Limited; KF Foods Industries Co., Ltd.²¹
K Fresh
K.D. Trading Co., Ltd.
K.L. Cold Storage Co., Ltd.
Kiang Huat Sea Gull Trading Frozen Food Public Co., Ltd.
Kibun Trdg
Kitchens of the Ocean (Thailand) Company, Ltd.; Kitchens of the Ocean (Thailand) Ltd.
Kongphop Frozen Foods Co., Ltd.
Kyokuyo Global Seafoods Co., Ltd.
Lee Heng Seafood Co., Ltd.
Leo Transports
Li-Thai Frozen Foods Co., Ltd.
Lucky Union Foods Co., Ltd.
Magnate & Syndicate Co., Ltd.
Mahachai Food Processing Co., Ltd.
Mahachai Marine Foods Co., Ltd.
Marine Gold Products Limited ²²
May Ao Foods Co., Ltd.; A Foods 1991 Co., Limited ²³
Merit Asia Foodstuff Co., Ltd.
Merkur Co., Ltd.
Mild Foods Co., Ltd.
Ming Chao Ind Thailand
N&N Foods Co., Ltd.
N.R. Instant Produce Co., Ltd.
Namprik Maesri Ltd. Part.
Narong Seafood Co., Ltd.
Nongmon SMJ Products
Pacific Fish Processing Co., Ltd.
Pacific Queen Co., Ltd.
Pakpanang Coldstorage Public Co., Ltd.
Penta Impex Co., Ltd.
Phatthana Frozen Food Co., Ltd.²⁴
Phatthana Seafood Co., Ltd.²⁵
Pinwood Nineteen Ninety Nine
Piti Seafood Co., Ltd.
Premier Frozen Products Co., Ltd.
Preserved Food Specialty Co., Ltd.
Queen Marine Food Co., Ltd.
Rayong Coldstorage (1987) Co., Ltd.
Royal Andaman Seafood Co., Ltd.
S.C.C. Frozen Seafood Co., Ltd.²⁶
S & D Marine Products Co., Ltd.
S&P Aquarium
S&P Syndicate Public Company Ltd.
S. Chaivaree Cold Storage Co., Ltd.
S. Khonkaen Food Ind. Public; S. Khonkaen Food Industry Public Co., Ltd.
S.K. Foods (Thailand) Public Co. Limited
S2K Marine Product Co., Ltd.
Samui Foods Company Limited
SB Inter Food Co., Ltd.
SCT Co., Ltd.
Sea Bonanza Foods Co., Ltd.
SEA NT'L CO., LTD.
Sea Wealth Frozen Food Co., Ltd.²⁷
Seafresh Industry Public Co., Ltd.; Seafresh Fisheries ²⁸
SEAPAC
Search and Serve
Sea-Tech Intertrade Co., Ltd.
Sethachon Co., Ltd.
Shianlin Bangkok Co., Ltd.
Shing Fu Seaproducts Development Co., Ltd.
Siam Food Supply Co., Ltd.
Siam Haitian Frozen Food Co., Ltd.
Siam Intersea Co., Ltd.
Siam Marine Products Co. Ltd.
Siam Ocean Frozen Foods Co., Ltd.
Siam Union Frozen Foods; The Siam Union Frozen Foods Co., Ltd.
Siamchai International Food Co., Ltd.
Smile Heart Foods ; Smile Heart Foods Co., Ltd.
SMP Food Product Co., Ltd.; SMP Foods Products Co., Ltd.; SMP Products, Co., Ltd.; SMP Food Products Co., Ltd.
Songkla Canning Public Co., Ltd.
Southeast Asian Packaging and Canning Ltd.
Southport Seafood; Southport Seafood Co., Ltd.
Star Frozen Foods Co., Ltd.
Starfoods Industries Co., Ltd.
STC Foodpak Ltd.
Suntechthai Intertrading Co., Ltd.
Surapon Seafood; Surapon Seafoods Public Co. Ltd; Surat Seafoods Public Co., Ltd.; Surapon Foods Public Co. Ltd.²⁹
Surapon Nichirei Foods Co., Ltd.
Suratthani Marine Products Co., Ltd.
Suree Interfoods Co., Ltd.
T.S.F. Seafood Co., Ltd.
Tep Kinsho Foods Co., Ltd.
Teppitak Seafood Co., Ltd.
Tey Seng Cold Storage Co., Ltd.; Chaiwarut Company Limited ³⁰
Thailand Fishery Cold Storage Public Co., Ltd.³¹
Thai Agri Foods Public Co., Ltd.
Thai Hanjin Logistics Co., Ltd.
Thai-Ger Marine Co.; Ongkorn Cold Storage Co., Ltd.
Thai I Mei Frozen Food Co., Ltd.³²
Thai International Seafoods Co., Ltd.³³
Thai Mahachai Seafood Products Co., Ltd.
Thai Ocean Venture Co., Ltd.
Thai Pak Exports Co., Ltd.
Thai Patana Frozen Co., Ltd.
Thai Royal Frozen Food Co., Ltd.
Thai Spring Fish Co., Ltd.
Thai Union Group Public Co., Ltd.; Thai Union Seafood Co., Ltd.; Pakfood Public Co., Ltd.; Asia Pacific (Thailand) Co., Ltd.; Chaophraya Cold Storage Co., Ltd.; Okeanos Co., Ltd.; Okeanos Food Co., Ltd.; Takzin Samut Co., Ltd.³⁴
Thai Union Manufacturing Company Limited
The Union Frozen Products Co., Ltd.
Thai World Import and Export Co., Ltd.; Thai World Imports and Export Co., Ltd.
Thai Yoo Ltd., Part.
Thong Thuan Co., Ltd.
Top Product Food Co., Ltd.
Trang Seafood Products Public Co., Ltd.
Transamut Food Co., Ltd.
Tung Lieng Tradg.
Unicord Public Co., Ltd.
United Cold Storage Co., Ltd.
V. Thai Food Product Co., Ltd.
Wales & Co. Universe Limited ³⁵
Wann Fisheries Co., Ltd.
Xian-Ning Seafood Co., Ltd.
Yeenin Frozen Foods Co., Ltd.
ZAFCO TRDG
THE PEOPLE'S REPUBLIC OF CHINA: Certain Frozen Warmwater Shrimp, A-570-893 | 2/1/24-1/31/25
Allied Kinpacific Food (Dalian) Co.
Allied Pacific Aquatic Products (Zhanjiang) Co., Ltd./Allied Pacific Food (Dalian) Co., Ltd.³⁶
Anhui Fuhuang Sungem Foodstuff Group Co., Ltd.
Asian Seafoods (Zhanjiang) Co., Ltd.
Beihai Anbang Seafood Co., Ltd.
Beihai Boston Frozen Food Co., Ltd.
Beihai Evergreen Aquatic Product Science and Technology Company Limited
Beihai Tianwei Aquatic Food Co. Ltd.
Changli Luquan Aquatic Products Co., Ltd.
Chengda Development Co Ltd. Colorful Bright Trade Co., Ltd.
Dalian Beauty Seafood Company Ltd.
Dalian Changfeng Food Co., Ltd.
Dalian Guofu Aquatic Products and Food Co., Ltd.
Dalian Haiqing Food Co., Ltd.
Dalian Hengtai Foods Co., Ltd.
Dalian Home Sea International Trading Co., Ltd.
Dalian Honghefeng International Trade Co., Ltd.
Dalian Philica International Trade Co., Ltd.
Dalian Rich Enterprise Group Co., Ltd.
Dalian Shanhai Seafood Co., Ltd.
Dalian Sunrise Foodstuffs Co., Ltd.
Dalian Taiyang Aquatic Products Co., Ltd.
Dandong Taihong Foodstuff Co., Ltd.
Dongwei Aquatic Products (Zhangzhou) Co., Ltd.
Ferrero Food (Hangzhou) Co., Ltd.
Fujian Chaohui Group
Fujian Chaowei International Trading
Fujian Dongshan County Shunfa Aquatic Product Co., Ltd.
Fujian Dongshan County Shunyuan Aquatic Product Co., Ltd.
Fujian Dongwei Food Co., Ltd.
Fujian Dongya Aquatic Products Co., Ltd.
Fujian Fuding Seagull Fishing Food Co., Ltd.
Fujian Haihun Aquatic Product Company
Fujian Hainason Trading Co., Ltd.
Fujian Jinhang Aquatic Product Co., Ltd.
Fujian Min Tong Wan Hai Fishery Ltd.
Fujian R & J Group Ltd.
Fujian Rongjiang Import and Export Co., Ltd.
Fujian Zhaoan Haili Aquatic Co., Ltd.
Fuqing Chaohui Aquatic Food Co., Ltd.
Fuqing Dongwei Aquatic Products Industry Co., Ltd.
Fuqing Longhua Aquatic Food Co., Ltd.
Fuqing Minhua Trade Co., Ltd.
Fuqing Yihua Aquatic Food Co., Ltd.
Fuzhou Shuixi Food Inc.
Gallant Ocean Group Guangdong Evergreen Aquatic Food Co., Ltd.
Guangdong Foodstuffs Import & Export (Group) Corporation
Guangdong Gourmet Aquatic Products Co., Ltd.
Guangdong Jinhang Foods Co., Ltd.
Guangdong Longze Food Co. Ltd.
Guangdong Rainbow Aquatic Development
Guangdong Savvy Seafood Inc.
Guangdong Shunxin Marine Fishery Group Co., Ltd.
Guangdong Universal Aquatic Food Co. Ltd.
Guangdong Wanshida Holding Corp.
Guangdong Wanya Foods Fty. Co., Ltd.
HaiLi Aquatic Product Co., Ltd.
Hainan Brich Aquatic Products Co., Ltd.
Hainan Golden Spring Foods Co., Ltd.
Hainan Qinfu Foods Co., Ltd.
Hainan Xintaisheng Industry Co., Ltd.
Huayang International Transportation Service (Dalian) Co., Ltd.
Huazhou Xinhai Aquatic Products Co. Ltd.
Kuehne Nagel Ltd. Xiamen Branch
Leizhou Bei Bu Wan Sea Products Co., Ltd.
Longhai Gelin Foods Co., Ltd.
Maoming Xinzhou Seafood Co., Ltd.
New Continent Foods Co., Ltd.
Ningbo Prolar Global Co., Ltd.
North Seafood Group Co.
Pacific Andes Food Ltd.
Penglai Huiyang Foodstuff Co., Ltd.
Penglai Yuming Foodstuff Co., Ltd.
Qingdao Fusheng Foodstuffs Co., Ltd.
Qingdao Yihexing Foods Co., Ltd.
Qingdao Yize Food Co., Ltd.
Qingdao Zhongfu International
Qinhuangdao Gangwan Aquatic Products Co., Ltd.
Raoping YuXiang Aquaculture Co., Ltd.
Rizhao Huasheng Aquatic Foodstuff
Rizhao Jia Tian Xia Foods Co., Ltd.
Rizhao Kunyu Food Co. Ltd.
Rizhao Meijia Aquatic Foodstuff Co., Ltd.
Rizhao Meijia Keyuan Foods Co. Ltd.
Rizhao Rongjin Aquatic
Rizhao Rongxing Co. Ltd.
Rizhao Smart Foods Company Limited
Rongcheng Sanyue Foodstuff Co., Ltd.
Rongcheng Yinhai Aquatic Product Co., Ltd.
Ruian Huasheng Aquatic Products
Rushan Chunjiangyuan Foodstuffs Co., Ltd.
Rushan Hengbo Aquatic Products Co., Ltd.
Savvy Seafood Inc.
Sea Trade International Inc.
Shandong Mingbang Food Co., Ltd.
Shandong Tongxing Foodstuffs Co., Ltd.
Shanghai Finigate Integrated
Shanghai Zhoulian Foods Co., Ltd.
Shantou Freezing Aquatic Product Foodstuffs Co.
Shantou Haili Aquatic Product Co. Ltd.
Shantou Haimao Foodstuff Factory Co., Ltd.
Shantou Jiazhou Food Industrial Co., Ltd.
Shantou Jinping Oceanstar Business Co., Ltd.
Shantou Jintai Aquatic Product Industrial Co., Ltd.
Shantou Longsheng Aquatic Product Foodstuff Co., Ltd.
Shantou Ocean Best Seafood Corporation
Shantou Red Garden Food Processing Co., Ltd./Shantou Red Garden Foodstuff Co., Ltd.³⁷
Shantou Ruiyuan Industry Co., Ltd.
Shantou Wanya Foods Fty. Co., Ltd.
Shantou Yuexing Enterprise Company
Shengyuan Aquatic Food Co., Ltd.
Suizhong Tieshan Food Co., Ltd.
Thai Royal Frozen Food Zhanjiang Co., Ltd.
Time Seafood (Dalian) Company Limited
Tongwei Hainan Aquatic Products Co., Ltd.
Xiamen East Ocean Foods Co., Ltd.
Xiamen Golden Huanan Imp.&Exp. Co., Ltd.
Xiamen Granda Import and Export Co., Ltd.
Xiamen Lixing Imp. & Exp. Co. Ltd.
Yangjiang Dawu Aquatic Products Co., Ltd.
Yangjiang Guolian Seafood Co., Ltd.
Yangjiang Haina Datong Trading Co.
Yantai Longda Foodstuffs Co., Ltd.
Yantai Tedfoods Co., Ltd.
Yantai Wei-Cheng Food Co., Ltd.
Yixing Magnolia Garment Co., Ltd.
Zhangzhou Donghao Seafoods Co., Ltd.
Zhangzhou Fuzhiyuan Food Co., Ltd.
Zhangzhou Hongwei Foods Co., Ltd.
Zhangzhou Tai Yi Import & Export Trading Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Co., Ltd.
Zhanjiang Fuchang Aquatic Products Freezing Plant
Zhanjiang Go-Harvest Aquatic Products Co., Ltd.
Zhanjiang Guolian Aquatic Products Co., Ltd.³⁸
Zhanjiang Longwei Aquatic Products Industry Co., Ltd.
Zhanjiang Regal Integrated Marine Resources Co., Ltd.³⁹
Zhanjiang Universal Seafood Corp.
Zhanjiang Weipinwei Aquatic Product Co., Ltd.
Zhaoan Yangli Aquatic Co., Ltd.
Zhejiang Evernew Seafood Co.
Zhejiang Tianhe Aquatic Products
Zhejiang Xinwang Foodstuffs Co., Ltd.
Zhenye Aquatic (Huilong) Ltd.
Zhoushan City Shengtai Aqu
Zhoushan Genho Food Co., Ltd.
Zhoushan Green Food Co., Ltd.
Zhoushan Haiwang Seafood Co., Ltd.
Zhoushan Haizhou Aquatic Products
Zhuanghe Yongchun Marine Products
THE PEOPLE'S REPUBLIC OF CHINA: Crystalline Silicon Photovoltaic Products, A-570-010 | 2/1/24-1/31/25
Anji Dasol Solar Energy Science & Technology Co., Ltd.
BYD (Shangluo) Industrial Co., Ltd.
Canadian Solar International Limited
Canadian Solar Manufacturing (Changshu) Inc.
Canadian Solar Manufacturing (Luoyang) Inc.
Changzhou Trina Hezhong Photoelectric Co., Ltd.
Changzhou Trina Solar Energy Co., Ltd.
Changzhou Trina Solar Yabang Energy Co., Ltd.
Chint Energy (Haining) Co., Ltd.
Chint Solar (Hong Kong) Company Limited
Chint Solar (Jiuquan) Co., Ltd.
Chint Solar (Zhejiang) Co., Ltd.
Chint New Energy Technology (Haining) Co. Ltd.
CSI Cells Co., Ltd.
CSI Solar Power (China) Inc.
CSI-GCL Solar Manufacturing (Yancheng) Co., Ltd.
De-Tech Trading Limited HK
Hefei JA Solar Technology Co., Ltd.
Hengdian Group DMEGC Magnetics Co. Ltd.
Hubei Trina Solar Energy Co., Ltd.
JA Solar Co., Ltd.
JA Solar Technology Yangzhou Co., Ltd.
Jiangsu Jinko Tiansheng Solar Co., Ltd.
Jiawei Solarchina (Shenzhen) Co., Ltd.
Jiawei Solarchina Co., Ltd.
JingAo Solar Co., Ltd.
Jinko Solar Co. Ltd.
Jinko Solar Import and Export Co., Ltd.
Jinko Solar International Limited
JinkoSolar Technology (Haining) Co., Ltd.
Jiujiang Shengchao Xinye Technology Co., Ltd.
Jiujiang Shengzhao Xinye Trade Co., Ltd.
Lightway Green New Energy Co., Ltd.
Longi (HK) Trading Ltd.
Longi Solar Technology Co. Ltd.; Lerri Solar Technology Co., Ltd.
Luoyang Suntech Power Co., Ltd.
Ningbo ETDZ Holdings, Ltd.
Ningbo Qixin Solar Electrical Appliance Co., Ltd.
Perlight Solar Co., Ltd.
Renesola Jiangsu Ltd.
ReneSola Zhejiang Ltd.
Risen (Luoyang) New Energy Co., Ltd.
Risen (Wuhai) New Energy Co., Ltd.
Risen Energy Co. Ltd.; Risen Energy (Changzhou) Co., Ltd.
Ruichang Branch, Risen Energy (HongKong) Co., Ltd.
Shanghai BYD Co., Ltd.
Shenzhen Sungold Solar Co., Ltd.
Shenzhen Topray Solar Co., Ltd.
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited.
Sumec Hardware & Tools Co., Ltd.
Sunny Apex Development Ltd.
Suntech Power Co., Ltd.
Taizhou BD Trade Co., Ltd.
tenKsolar (Shanghai) Co., Ltd.
Trina Solar (Changzhou) Science & Technology Co., Ltd.
Trina Solar (Changzhou) Science and Technology Co., Ltd.
Trina Solar (Hefei) Science and Technology Co., Ltd.
Trina Solar Co., Ltd.
Turpan Trina Solar Energy Co., Ltd.
Wuxi Suntech Power Co., Ltd.
Wuxi Tianran Photovoltaic Co., Ltd.
Xiamen Yiyusheng Solar Co., Ltd.
Yancheng Trina Guoneng Photovoltaic Technology Co., Ltd.
Yingli Green Energy International Trading Company Limited
Yuhuan Jinko Solar Co., Ltd.
Zhejiang Aiko Solar Energy Technology Co., Ltd.
Zhejiang Jinko Solar Co., Ltd.
Zhejiang Twinsel Electronic Technology Co., Ltd.
THE PEOPLE'S REPUBLIC OF CHINA: Gas Powered Pressure Washers, A-570-148 | 8/3/23-1/31/25
BE Pressure Supply MFG (Pinghu) Co., Ltd.
China GTL Tools Group, Ltd.
Chongqing Dajiang Power Equipment Co., Ltd.
Chongqing Dinking Power Machinery
Chongqing Rato Technology Co., Ltd.
Ducar Technology Company Limited
Jiangsu Jianghuai Engine Co., Ltd.
Loncin Moto Co., Ltd.
Maxworld Home Co., Ltd.
MWE Investments LLC
Ningbo Juang Machinery Manufacturing Co., Ltd.
Pinghu Biyi Cleaning Equipment Co., Ltd.
Powerful Machinery & Electronics Technology Developing Co., Ltd.
Senci Electri Machinery Co., Ltd.
Shanghai Super Champion Machine and Electrical Equipment Co., Ltd.
Sumec Hardware and Tools Co., Ltd.
Taizhou Bison Machinery Co., Ltd.
Taizhou Longfa Machinery Co., Ltd.
Taizhou Newland Machinery Co., Ltd.
Zhejiang Anlu Cleaning Machinery Co., Ltd.
Zhejiang Constant Power Machinery Co., Ltd.
Zhejiang Danau Machine Co., Ltd.
Zhejiang Lingben Machinery & Electronics Co., Ltd.
Zhejiang Kuhong Machinery Technology Co., Ltd.
Zhejiang Xinchang Bigyai Power Tool Co., Ltd.
Zhejiang Yili Machinery & Electric Co., Ltd.
Zhejiang Zhinanche Cleaning Equipment Co., Ltd.
THE PEOPLE'S REPUBLIC OF CHINA: Small Diameter Graphite Electrodes, A-570-929 | 2/1/24-1/31/25
Beijing Ly Metals & Mining Co., Ltd.
Bejing Fanda Carbon Tech Co., Ltd.; Chengdu Rongguang Carbon Co., Ltd.; Fangda Carbon New Material Co., Ltd.; Fushun Carbon Co., Ltd.; Hefei Carbon Co., Ltd.
CIMM Group Co., Ltd.⁴⁰
Huantie (Ningxia) New Materials Teach
Jiangsu Jianglong New Energy
Liaoning Dantan New Materials Co., Ltd.
Shanxi Juxian Graphite New Material Co., Ltd.
Zhejiang Jingyuan Supply Chain
THE PEOPLE'S REPUBLIC OF CHINA: Utility Scale Wind Towers, A-570-981 | 2/1/24-1/31/25
AUSKY (Shandong) Machinery Manufacturing Co., Ltd.
AVIC International Renewable Energy Co., Ltd.
Baotou Titan Wind Power Equipment Co., Ltd.
Baicheng Tianqi Equipment Manufacturing Engineering Co. Ltd.
Chengxi Shipyard Co., Ltd.
China WindPower Group
CleanTech Innovations Inc.
CRRC Wind Power (Shandong) Co., Ltd.
CS Wind China Co., Ltd.
Dajin Heavy Industry Corporation
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangyin Hengrun Ring Forging Co., Ltd.
Jilin Miracle Equipment Manufacturing Engineering Co., Ltd.
Jilin Tianhe Wind Power Equipment Co., Ltd.
Nanjing Jiangbiao Group Co., Ltd.
Nantong Dongtai New Energy Equipment Co., Ltd.
Nantong Hongbo Windpower Equipment Co., Ltd.
Ningxia Electric Power Group
Ningxia Yinyi Wind Power Generation Co., Ltd.
Nordex Dongying Wind Power Equipment Manufacturing Co. Ltd.
Renewable Energy Asia Group Ltd.
Shandong Zhongkai Wind Power Equipment Manufacturers, Ltd.
Shandong Endless Wind Turbine Technical Equipment Co., Ltd.
Shandong Iraeta Heavy Industry
Shanghai Aerotech Trading International
Shanghai GE Guangdian Co., Ltd.
Shanghai Taisheng Wind Power Equipment Co., Ltd.
Shenyang Titan Metal Co., Ltd.
Siemens Gamesa Renewable Energy, S.A.
Sinovel Wind Group Co., Ltd.
Suihua Wuxiao Electric Power Equipment Co., Ltd.
Titan Wind Energy (Suzhou) Co., Ltd.
Titan (Lianyungang) Metal Product Co., Ltd.
Qingdao GeLinTe Environmental Protection Equipment Co., Ltd.
Qingdao Ocean Group
Qingdao Tianneng Electric Power Engineering Machinery Co., Ltd.
Qingdao Wuxiao Group Co., Ltd.
Vestas Wind Technology (China) Co., Ltd.
Wuxiao Steel Tower Co., Ltd.
Xinjiang Huitong (Group) Co., Ltd.
Xinjiang Goldwind Science & Technology Co., Ltd.
Zhejiang Guoxing Steel Structure Co., Ltd.
THE PEOPLE'S REPUBLIC OF CHINA: Wood Mouldings and Millwork Products, A-570-117 | 2/1/24-1/31/25
Anji Huaxin Bamboo & Wood Products Co., Ltd.
Baixing Import and Export Trading Co., Ltd Youxi Fujian
Bel Trade Wood Industrial Co., Ltd Youxi Fujian
Fotiou Frames Limited
Fujian Hongjia Craft Products Co., Ltd.
Fujian Jinquan Trade Co., Ltd.
Fujian Sanming City Donglai Wood Co., Ltd.
Fujian Wangbin Decorative Material Co., Ltd.
Fujian Yinfeng Imp & Exp Trading Co., Ltd.
Fujian Youxi Best Arts & Crafts Co. Ltd.
Fujian Zhangping Kimura Forestry Products Co., Ltd.
Gaomi Hongtai Home Furniture Co., Ltd.
Homebuild Industries Co., Ltd.
Huaan Longda Wood Industry Co., Ltd.
Jiangsu Chensheng Forestry Development Co., Ltd.
Jiangsu Wenfeng Wood Co., Ltd.
Jim Fine Wooden Products Co., Ltd.
Longquan Jiefeng Trade Co., Ltd.
Nanping Huatai Wood & Bamboo Co., Ltd.
Omni One Co., Limited
Putian Yihong Wood Industry Co., Ltd.
Raoping HongRong Handicrafts Co., Ltd. (d.b.a. Chen Chui Global Corp.)
Sanming Lintong Trading Co., Ltd.
Shandong Miting Household Co., Ltd.
Shaxian Hengtong Wood Industry Co., Ltd.
Shaxian Shiyiwood, Ltd.
Shenzhen Xinjintai Industrial Co., Ltd.
Shuyang Kevin International Co., Ltd.
Sun Valley Shade Co., Ltd.
Suqian Sulu Import & Export Trading Co., Ltd.
Tim Feng Manufacturing Co., Ltd.
Wuxi Boda Bamboo & Wood Industrial Co., Ltd.
Xiamen Zihua Industry & Trade Co., Ltd.
Zhangzhou Wangjiamei Industry & Trade Co., Ltd.
Zhangzhou Yihong Industrial Co., Ltd.
CVD Proceedings
INDIA: Brass Rod, C-533-916 | 9/29/23-12/31/24
M/S Shree Extrusions Ltd.
Rajhans Alloys Pvt Ltd.
Rajhans Metals Pvt Ltd.
INDIA: Sodium Nitrite, C-533-907 | 1/1/24-12/31/24
Deepak Nitrite Limited
Kronox Lab Sciences Pvt Ltd.
Buradon Inc.
Kutch Chemical Industries Ltd.
Palvi Industries Limited
Lotus Global Pvt. Ltd.
REPUBLIC OF KOREA: Certain Cut-To-Length Carbon-Quality Steel Plate, C-580-837 | 1/1/24-12/31/24
Daeik Eng Co., Ltd.
Dongkuk Steel Mill Co., Ltd.
Hyundai Steel Company
MAIKO International
THE PEOPLE'S REPUBLIC OF CHINA: Gas Powered Pressure Washers, C-570-149 | 6/5/23-12/31/24
BE Pressure Supply MFG (Pinghu) Co., Ltd.
China GTL Tools Group, Ltd.
Chongqing Dajiang Power Equipment Co., Ltd.
Chongqing Dinking Power Machinery
Chongqing Rato Technology Co., Ltd.
Ducar Technology Company Limited
Jiangsu Jianghuai Engine Co., Ltd.; Jiangsu Nonghua Intelligent Agriculture Technology C., Ltd.⁴¹
Loncin Motor Co., Ltd.
Maxworld Home Co., Ltd.
MWE Investments LLC
Ningbo Jugang Machinery Manufacturing Co., Ltd.
Pinghu Biyi Cleaning Equipment Co., Ltd.
Powerful Machinery & Electronics Technology Developing Co., Ltd.
Senci Electric Machinery Co., Ltd.
Shanghai Super Champion Machine and Electrical Equipment Co., Ltd.
Sumec Hardware and Tools Co., Ltd.
Taizhou Bison Machinery Co., Ltd.
Taizhou Longfa Machinery Co., Ltd.
Taizhou Newland Machinery Co., Ltd.
Zhejiang Anlu Cleaning Machinery Co., Ltd.
Zhejiang Constant Power Machinery Co., Ltd.
Zhejiang Danau Machine Co., Ltd.
Zhejiang Kuhong Machinery Technology Co., Ltd.
Zhejiang Lingben Machinery & Electronics Co., Ltd.
Zhejiang Xinchang Bigyao Power Tool Co., Ltd.
Zhejiang Yili Machinery & Electric Co., Ltd.
Zhejiang Zhinanche Cleaning Equipment Co., Ltd.
THE PEOPLE'S REPUBLIC OF CHINA: Truck and Bus Tires, C-570-041 | 1/1/24-12/31/24
Chongqing Hankook Tire Co., Ltd.
Jiangsu Hankook Tire Co., Ltd.
Maxon Int'l Co., Limited
Sailun Group (Hong Kong) Co., Limited
Sailun Group Co., Ltd.
Shandong Linglong Tyre Co., Ltd.
Weifang Shunfuchang Rubber and Plastic Products Co., Ltd.
THE PEOPLE'S REPUBLIC OF CHINA: Utility Scale Wind Towers, C-570-982 | 1/1/24-12/31/24
AUSKY (Shandong) Machinery Manufacturing Co., Ltd.
AVIC International Renewable Energy Co., Ltd.
Baotou Titan Wind Power Equipment Co., Ltd.
Baicheng Tianqi Equipment Manufacturing Engineering Co. Ltd.
Chengxi Shipyard Co., Ltd.
China WindPower Group
CleanTech Innovations Inc.
CRRC Wind Power (Shandong) Co., Ltd.
CS Wind China Co., Ltd.
Dajin Heavy Industry Corporation
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangyin Hengrun Ring Forging Co., Ltd.
Jilin Miracle Equipment Manufacturing Engineering Co., Ltd.
Jilin Tianhe Wind Power Equipment Co., Ltd.
Nanjing Jiangbiao Group Co., Ltd.
Nantong Dongtai New Energy Equipment Co., Ltd.
Nantong Hongbo Windpower Equipment Co., Ltd.
Ningxia Electric Power Group
Ningxia Yinyi Wind Power Generation Co., Ltd.
Nordex Dongying Wind Power Equipment Manufacturing Co. Ltd.
Renewable Energy Asia Group Ltd.
Shandong Zhongkai Wind Power Equipment Manufacturers, Ltd.
Shandong Endless Wind Turbine Technical Equipment Co., Ltd.
Shandong Iraeta Heavy Industry
Shanghai Aerotech Trading International
Shanghai GE Guangdian Co., Ltd.
Shanghai Taisheng Wind Power Equipment Co., Ltd.
Shenyang Titan Metal Co., Ltd.
Siemens Gamesa Renewable Energy, S.A.
Sinovel Wind Group Co., Ltd.
Suihua Wuxiao Electric Power Equipment Co., Ltd.
Titan Wind Energy (Suzhou) Co., Ltd.
Titan (Lianyungang) Metal Product Co., Ltd.
Qingdao GeLinTe Environmental Protection Equipment Co., Ltd.
Qingdao Ocean Group
Qingdao Tianneng Electric Power Engineering Machinery Co., Ltd.
Qingdao Wuxiao Group Co., Ltd.
Vestas Wind Technology (China) Co., Ltd.
Wuxiao Steel Tower Co., Ltd.
Xinjiang Huitong (Group) Co., Ltd.
Xinjiang Goldwind Science & Technology Co., Ltd.
Zhejiang Guoxing Steel Structure Co., Ltd.
THE PEOPLE'S REPUBLIC OF CHINA: Wood Mouldings and Millwork Products, C-570-118 | 1/1/24-12/31/24
Anji Huaxin Bamboo & Wood Products Co., Ltd.
Aventra Inc.
Baixing Import and Export Trading Co., Ltd Youxi Fujian
Bel Trade Wood Industrial Co.
Bel Trade Wood Industrial Co., Ltd Youxi Fujian
Cao County Hengda Wood Products Co., Ltd.
China Cornici Co. Ltd.
Fotiou Frames Limited
Fujian Hongjia Craft Products Co., Ltd.
Fujian Jinquan Trade Co., Ltd.; Fujian Province Youxi County Baiyuan Wood Machining Co., Ltd.⁴²
Fujian Shunchang Shengsheng Wood Industry Limited Company
Fujian Wangbin Decorative Material Co., Ltd.
Fujian Yinfeng Imp & Exp Trading Co., Ltd.; Fujian Province Youxi City Mangrove Wood Machining Co., Ltd.; Fujian Province Youxi City Mangrove Wood Machining Co., Ltd Youxi Xicheng Branch ⁴³
Fujian Youxi Best Arts & Crafts Co. Ltd.
Fujian Zhangping Kimura Forestry Products Co., Ltd.
Homebuild Industries Co., Ltd.
Huaan Longda Wood Industry Co., Ltd.
Jiangsu Chensheng Forestry Development Co., Ltd.
Jiangsu Wenfeng Wood Co., Ltd.
Longquan Jiefeng Trade Co., Ltd.
Nanping Huatai Wood & Bamboo Co., Ltd.
Omni One Co., Limited
Putian Yihong Wood Industry Co., Ltd.
Raoping HongRong Handicrafts Co., Ltd. (d.b.a. Chen Chui Global Corp.)
Sanming Lintong Trading Co., Ltd.
Shandong Miting Household Co., Ltd.
Shaxian Hengtong Wood Industry Co., Ltd.
Shaxian Shiyiwood, Ltd.
Shenzhen Xinjintai Industrial Co., Ltd.
Shuyang Kevin International Co., Ltd.
Suqian Sulu Import & Export Trading Co., Ltd.
Tim Feng Manufacturing Co., Ltd.
Wuxi Boda Bamboo & Wood Industrial Co., Ltd.
Xiamen Zihua Industry & Trade Co., Ltd.
Zhangzhou Wangjiamei Industry & Trade Co., Ltd.
Zhangzhou Yihong Industrial Co., Ltd.

⁴ On March 11, 2024, Commerce determined that Elque Ventures Private Limited is the successor-in interest to Elque & Co. Therefore, the results of this review will be applicable to the Elque Group comprised of the companies listed above. See Certain Frozen Warmwater Shrimp From India: Notice of Final Results of Antidumping Duty Changed Circumstances Review, 89 FR 17386 (March 11, 2024).

⁵ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁶ On October 18, 2023, Commerce determined that Highland Agro Food Private Limited is the successor-in-interest to Highland Agro. See Certain Frozen Warmwater Shrimp From India: Notice of Final Results of Antidumping Duty Changed Circumstances Review, 88 FR 71825 (October 18, 2023).

⁷ On December 23, 2022, Commerce determined that Kader Exports Private Limited is the successor in-interest to the Liberty Group, which is comprised of Devi Marine Food Exports Private Ltd.; Kader Exports Private Limited; Kader Investment and Trading Company Private Limited; Liberty Frozen Foods Private Limited; Liberty Oil Mills Limited; Premier Marine Products Private Limited; and Universal Cold Storage Private Limited. See Certain Frozen Warmwater Shrimp from India: Notice of Final Results of Antidumping Duty Changed Circumstances Review, 87 FR 78941 (December 23, 2022).

⁸ Interested parties requested a review of Camau Frozen Seafood Processing Import Export Corporation, but Commerce has previously determined that Camimex Group Joint Stock Company is the successor-in-interest to Camau Frozen Seafood Processing Import Export Corporation, so has only listed Camimex Group Joint Stock Company in this notice. See Certain Frozen Warmwater Shrimp from the Socialist Republic of Vietnam: Notice of Final Results of Antidumping Duty Changed Circumstances Review, 86 FR 47617, August 26, 2021.

⁹ Interested parties requested a review of FIMEX VN and Sao Ta Seafood Factory separately, but Commerce has listed them together here because it previously determined that these two entries are affiliated within the meaning of section 771(33) of the Act and comprise a single entity pursuant to 19 CFR 351.401(f). See Certain Frozen Warmwater Shrimp from the Socialist Republic of Vietnam: Final Results of Antidumping Duty Administrative Review, 2017-2018, 84 FR 44859, August 27, 2019.

¹⁰ Shrimp produced and exported by Minh Phat Seafood Company Limited were excluded from the AD order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹¹ Shrimp produced and exported by Minh Phu Hau Giang Seafood were excluded from the AD order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹² Shrimp produced and exported by Minh Phu Seafood Corporation were excluded from the AD order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹³ Shrimp produced and exported by Minh Qui Seafood Co., Ltd. were excluded from the AD order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹⁴ Interested parties requested a review of these companies separately, but Commerce has listed them together here because it previously determined that these entities are affiliated within the meaning of section 771(33) of the Act and comprise a single entity pursuant to 19 CFR 351.401(f). See Certain Frozen Warmwater Shrimp from the Socialist Republic of Vietnam: Preliminary Results, Partial Rescission, and Request for Revocation, In Part, of the Fifth Administrative Review, 76 FR 12054, 12056 (March 4, 2011), unchanged in Certain Frozen Warmwater Shrimp from the Socialist Republic of Vietnam: Final Results and Final Partial Rescission of Antidumping Duty Administrative Review, 76 FR 56158 (September 12, 2011).

¹⁵ In the investigation, we found it appropriate to treat the following companies as a single entity: Andaman Seafood Co., Ltd. (Andaman Seafood); Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd (collectively, the Single Entity). See Notice of Final Determination of Sales at Less Than Fair Value and Negative Final Determination of Critical Circumstances: Certain Frozen and Canned Warmwater Shrimp from Thailand, 69 FR 76918, 76920 n.4 (December 23, 2004), unchanged in Notice of Amended Final Determination of Sales at Less Than Fair Value and Antidumping Duty Order: Certain Frozen Warmwater Shrimp from Thailand, 70 FR 5145 (February 1, 2005) (Shrimp from Thailand Final Determination). Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Andaman Seafood and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

¹⁶ In past reviews, Commerce has treated these companies as a single entity. See, e.g., Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for the purpose of this administrative review.

¹⁷ In past reviews, Commerce has treated these companies as a single entity. See, e.g., 2015-2016 AR Final. Absent information to the contrary, we intend to continue to treat these companies as a single entity for the purpose of this administrative review.

¹⁸ In the investigation, we found it appropriate to treat the following companies as a single entity: Andaman Seafood Co., Ltd.; Chanthaburi Seafoods Co., Ltd.; Chanthaburi Frozen Food Co., Ltd. (Chanthaburi Frozen); Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Chanthaburi Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

¹⁹ In the investigation, we found it appropriate to treat the following companies as a single entity: Andaman Seafood Co., Ltd.; Chanthaburi Seafoods Co., Ltd. (Chanthaburi Seafoods; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Chanthaburi Seafoods and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

²⁰ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.(Intersia Foods); Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Intersia Foods and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods, one of the companies within the entity. See Certain Frozen Warmwater Shrimp from Thailand: Final Results and Final Partial Rescission of Antidumping Duty Administrative Review, 73 FR 50933, 50935 (August 29, 2008). As such, Y2K Frozen Co., Ltd. is not listed in this initiation notice.

²¹ In past reviews, Commerce has treated these companies as a single entity. See, e.g., Certain Frozen Warmwater Shrimp from Thailand: Final Results and Final Partial Rescission of Antidumping Duty Administrative Review; 2006-2007, 73 FR 50933 (August 29, 2008) (2006-2007 AR Final). Absent information to the contrary, we intend to continue to treat these companies as a single entity for the purpose of this administrative review.

²² Certain frozen warmwater shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). This exclusion is not applicable to merchandise exported to the United States by Marine Gold in any other producer/exporter combination or by third parties that sourced subject merchandise from the excluded producer/exporter combination. Accordingly, this initiation covers merchandise: (1) produced by a third party and exported by Marine Gold; (2) produced by Marine Gold and exported by a third party; or (3) exported by a third party that sourced subject merchandise from the excluded producer/exporter combination

²³ In past reviews, Commerce has treated these companies as a single entity. See, e.g., 2015-2016 AR Final. Absent information to the contrary, we intend to continue to treat these companies as a single entity for the purpose of this administrative review.

²⁴ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd. (Phatthana Frozen); and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Phatthana Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

²⁵ In the investigation, we found it appropriate to treat the following companies as a single entity: Andaman Seafood Co., Ltd.; Chanthaburi Seafoods Co., Ltd.; Chanthaburi Frozen Food Co., Ltd.; Phatthana Seafood Co., Ltd. (Phatthana Seafood); Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Phatthana Seafood and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

²⁶ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd. (S.C.C. Frozen); Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by S.C.C. Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

²⁷ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (Sea Wealth) (collectively, the Single Entity). See Shrimp from Thailand Final Determination. Certain frozen warmwater shrimp produced and exported by the Single Entity were subsequently excluded from the order effective January 16, 2009. See Section 129 Determination. This exclusion is applicable only to merchandise produced by Sea Wealth and exported to the United States by any of the Single Entity companies This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

²⁸ In past reviews, Commerce has treated these companies as a single entity. See, e.g., 2015-2016 AR Final. Absent information to the contrary, we intend to continue to treat these companies as a single entity for the purpose of this administrative review.

²⁹ In past reviews, Commerce has treated these companies as a single entity. See, e.g., 2015-2016 AR Final. Absent information to the contrary, we intend to continue to treat these companies as a single entity for the purpose of this administrative review.

³⁰ In past reviews, Commerce has treated these companies as a single entity. See, e.g., 2006-2007 AR Final. Absent information to the contrary, we intend to continue to treat these companies as a single entity for the purpose of this administrative review.

³¹ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd. (Thailand Fishery); Wales & Company Universe Ltd.; S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Thailand Fishery and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

³² Shrimp produced and exported by Thai I-Mei Frozen Foods Co., Ltd. (Thai I-Mei) were excluded from the order effective January 16, 2009. See Section 129 Determination. Accordingly, we are initiating this administrative review with respect to Thai I-Mei only for shrimp produced in Thailand where Thai I-Mei acted as either the manufacturer or exporter (but not both).

³³ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd. (Thai International); Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Thai International and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

³⁴ In past reviews, Commerce has treated these companies as a single entity. See, e.g., 2015-2016 AR Final. Absent information to the contrary, we intend to continue to treat these companies as a single entity for the purpose of this administrative review.

³⁵ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd. (Wales & Company); S.C.C. Frozen Seafood Co., Ltd.; Intersia Foods Co., Ltd.; Phatthana Frozen Food Co., Ltd.; and Sea Wealth Frozen Food Co, Ltd. (collectively, the Single Entity). See Shrimp from Thailand Final Determination. Certain frozen warmwater shrimp produced and exported by the Single Entity were subsequently excluded from the order effective January 16, 2009. See Section 129 Determination. This exclusion is applicable only to merchandise produced by Wales & Company and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination.

³⁶ Allied Pacific Food (Dalian) Co., Ltd., Allied Pacific (HK) Co., Ltd., Allied Pacific Aquatic Products (Zhanjiang) Co., Ltd; and Allied Pacific Aquatic Products (Zhongshan) Co., Ltd. comprise the single entity Allied Pacific. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (China Shrimp Exclusion). Additionally, this Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See China Shrimp Exclusion, 78 FR at 18959. Accordingly, we are initiating this review for these exporters only with respect to subject merchandise produced by entities other than the aforementioned producers.

³⁷ Shantou Red Garden Food Processing Co., Ltd., and Shantou Red Garden Foodstuff Co., Ltd., comprise the single entity Shantou Red Garden Foods. See Certain Frozen Warmwater Shrimp from the People's Republic of China: Final Results of Antidumping Duty Administrative Review and Final Determination of No Shipments; 2018-2019, 85 FR 83891 (December 23, 2020).

³⁸ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we initiated this review for this exporter only with respect to subject merchandise produced by another entity.

³⁹ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we initiated this review for this exporter only with respect to subject merchandise produced by another entity.

⁴⁰ In past reviews, Commerce has treated these companies as a single entity. See Small Diameter Graphite Electrodes From the People's Republic of China: Final Results of Antidumping Duty Administrative Review; 2012-2013, 79 FR 186 (September 25, 2014). Absent information to the contrary, we intend to continue to treat these companies as a single entity for the purpose of this administrative review.

⁴¹ Commerce previously determined that Jiangsu Jianghuai Engine Co., Ltd. and Jiangsu Nonghua Intelligent Agriculture Technology C., Ltd. are cross-owned. See e.g., Gas Powered Pressure Washers from the People's Republic of China: Antidumping and Countervailing Duty Orders, 89 FR 9834 (February 12, 2024).

⁴² In past reviews, Commerce has found these entities to be cross-owned. See Wood Mouldings and Millwork Products from the People's Republic of China: Final Results and Partial Rescission of Countervailing Duty Administrative Review; 2020-2021, 88 FR 62319 (September 11, 2023); and Wood Mouldings and Millwork Products From the People's Republic of China: Preliminary Results and Partial Rescission of Countervailing Duty Administrative Review; 2022, 89 FR 15816 (March 5, 2024). Absent information to the contrary, we intend to continue to treat these entities as cross-owned for the purpose of this administrative review.

⁴³ Id.

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁴⁴ available at https://www.govinfo.gov/content/pkg/FR-2013-07-17/pdf/2013-17045.pdf, prior to submitting factual information in this segment. Note that Commerce has amended certain of its requirements pertaining to the service of documents in 19 CFR 351.303(f).⁴⁵

⁴⁴ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁴⁵ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁴⁶ Commerce intends to reject factual submissions in any proceeding segments if the submitting party does not comply with applicable certification requirements.

⁴⁶ See section 782(b) of the Act; see also Final Rule; and the frequently asked questions regarding the Final Rule, available at https://enforcement.trade.gov/tlei/notices/factual_info_final_rule_FAQ_07172013.pdf.

Time Limits for Submission of Factual Information in Response to Questionnaires

Section 351.301(c) of Commerce's regulations states that during a proceeding, Commerce may issue to any person questionnaires, which includes both and initial and supplemental questionnaires. For all administrative review segments initiated after January 15, 2025, the following time limits apply:

(i) Initial questionnaire responses are due 30 days from the date of receipt of such questionnaire. The time limit for response to individual sections of the questionnaire, if Commerce requests a separate response to such sections, may be less than the 30 days allotted for response to the full questionnaire. In general, the date of receipt will be considered to be seven days from the date on which the initial questionnaire was transmitted.

(ii) Supplemental questionnaire responses are due on the date specified by Commerce.

(iii) A notification by an interested party, under section 782(c)(1) of the Act, of difficulties in submitting information in response to a questionnaire issued by Commerce is to be submitted in writing within 14 days after the date of the questionnaire or, if the questionnaire is due in 14 days or less, within the time specified by Commerce.

(iv) A respondent interested party may request in writing that Commerce conduct a questionnaire presentation. Commerce may conduct a questionnaire presentation if Commerce notifies the government of the affected country and that government does not object.

(v) Factual information submitted to rebut, clarify, or correct questionnaire responses. Within 14 days after an initial questionnaire response and within 10 days after a supplemental questionnaire response has been filed with Commerce, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. Commerce will reject any untimely filed rebuttal, clarification, or correction submission and provide, to the extent practicable, written notice stating the reasons for rejection. If insufficient time remains before the due date for the final determination or final results of review, Commerce may specify shorter deadlines under this section.

Extension of Time Limits Regulation

Parties may request an extension of time limits before a time limit established under Part 351 expires, or as otherwise specified by Commerce.⁴⁷ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

⁴⁷ See 19 CFR 351.302.

Notification to Interested Parties

These initiations and this notice are in accordance with section 751(a) of the Act (19 U.S.C. 1675(a)) and 19 CFR 351.221(c)(1)(i).

Dated: March 21, 2025.
Scot Fullerton,
Acting Deputy Assistant Secretary for Antidumping and Countervailing Duty Operations.

[FR Doc. 2025-05322 Filed 3-27-25; 8:45 am]

BILLING CODE 3510-DS-P